DEPARTMENT OF THE INTERIOR

National Park Service

30-Day Notice of Intention to Request Clearance of Collection of Information; Opportunity for Public Comment

AGENCY: National Park Service.

ACTION: Notice and request for comments.

SUMMARY: Under the Paperwork Reduction Act of 1995 and 5 CFR Part 1320, Reporting and Record Keeping Requirements, the NPS invites comments on a submitted request to the Office of Management and Budget (OMB) to approve an extension of a currently approved information collection (OMB No. 1024-0037). The NPS specifically requests comments on (1) The need for the information including whether the information has practical utility; (2) the accuracy of the reporting burden estimate; (3) ways to enhance the quality, utility, and clarity of the information to be collected; and (4) ways to minimize the burden of the information collection on respondents, including the use of automated collection techniques or other forms of information technology.

The NPS requests comments on an application form that Federal agencies use to issue permits to qualified individuals and institutions desiring to excavate or remove archeological resources from public or Indian lands. Copies of the request and related forms and explanatory material may be obtained by contacting the individual named below.

DATES: Public comments will be accepted on or before December 27, 2004.

ADDRESSES: You may submit comments directly to the Desk Officer for the Department of the Interior (1024-0037), Office of Information and Regulatory Affairs, OMB, by fax at 202/394-6566, or by electronic mail at oira_docket@omb.eop.gov. Submit copies of your comments to Dr. Francis P. McManamon, Manager, Archeology and Ethnography Program, National Park Service, 1849 C Street NW. (2275), Washington, DC 20240. Street address: 1201 I Street NW. (2275), Washington, DC, 20005, Phone 202/354-2123. Fax: 202/371-5102.

If you wish to comment, you may submit your comments using several methods. You may mail comments to the postal address given here. You may fax your comments to the fax number given. You may also hand-deliver comments to the street address given here. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

To Request Printed Copies of the Documents Contact: Dr. Francis P. McManamon, Manager, Archeology and Ethnography Program, National Park Service. Mailing address: 1849 C Street NW. (2275), Washington, DC 20240. Street address: 1201 I Street, NW. (2275), Washington, DC, 20005, Phone 202/354-2123. Fax: 202/371-5102.

SUPPLEMENTARY INFORMATION:

Title: Application For and Issuance of Federal Permits Under the Archaeological Resources Protection Act and the Antiquities Act.

Departmental Form Numbers: DI-1926 (permit application), DI-1991 (permit form).

OMB Number: 1024-0037.

Expiration date: 11/30/04

Type of request: Extension of currently approved collection.

Description of need: Information collected responds to statutory requirements that Federal agencies (1) issue permits to qualified individuals and institutions desiring to excavate or remove archeological resources from public or Indian lands, and (2) specify terms and conditions, including reporting requirements, in permits. The information collected is reported annually to Congress and is used for land management purposes.

Description of respondents: Individuals, businesses, academic institutions, tribes or tribal members, Federal agencies and other parties wishing to excavate or remove archeological resources from public or Indian lands.

Estimated average number of respondents: 700.

Estimated average burden hours per response: 2.5 hours.

Estimated annual reporting burden: 1750.

Dated: October 20, 2004.
Leonard E. Stowe,
Acting NPS, Information Collection Clearance Officer, Washington Administrative Program Center.

[FR Doc. 04-26003 Filed 11-23-04; 8:45 am]

BILLING CODE 4312-52-M